SECURITIES AND EXCHANGE COMMISSION

[File No. 500-1]

Order of Suspension of Trading

March 13, 2008.

In the Matter of Andros Isle Development Corporation; Asante Networks, Inc.; Beluga Composites Corporation; Cobra Energy Inc.; Complete Care Medical, Inc.; Disability Access Corporation; El Alacran Gold Mine Corp.; Extreme Fitness Inc.; Gaming Transactions Inc.; Global Equity Fund, Inc.; HealthSonix Inc.; IQ Webquest Inc.; JSX Energy Inc.; Kensington Industries, Inc.; Kingslake Energy Inc.; L International Computers Inc.; Let's Talk Recovery Inc.; Mobilestream Oil, Inc.; Mvive Inc.; Native American Energy Group Inc.; Paramount Gold and Silver Corp.; Regal Technologies, Inc.; Remington Ventures, Inc.; Straight Up Brands Inc.; Transglobal Oil Corp.; Turquoise Development Company

It appears to the Securities and Exchange Commission that there is a lack of current and accurate information concerning the securities of Andros Isle Development Corporation, which is quoted on the Pink Sheets under the ticker symbol AVPJ. Trading in the securities of Andros Isle Development Corporation appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Asante Networks, Inc., which is quoted on the Pink Sheets under the ticker symbol ASTN. Trading in the securities of Asante Networks, Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Beluga Composites Corporation, which is quoted on the Pink Sheets under the ticker symbol BGCC. Trading in the securities of Beluga Composites Corporation appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Cobra Energy Inc., which is quoted on the Pink Sheets under the ticker symbol CBNG. Trading in the securities of Cobra Energy Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Complete Care Medical, Inc., which is quoted on the Pink Sheets under the ticker symbol CCMI. Trading in the securities of Complete Care Medical, Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Disability Access Corporation, which is quoted on the Pink Sheets under the ticker symbol DBYC. Trading in the securities of Disability Access Corporation appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of El Alacran Gold Mine Corp., which is quoted on the Pink Sheets under the ticker symbol EAGM. Trading in the securities of El Alacran Gold Mine Corp. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Extreme Fitness Inc., which is quoted on the Pink Sheets under the ticker symbol EXTF. Trading in the securities of Extreme Fitness Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Gaming Transactions Inc., which is quoted on the Pink Sheets under the ticker symbol GGTS. Trading in the securities of Gaming Transactions Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Global Equity Fund, Inc., which is quoted on the Pink Sheets under the ticker symbol GEQF. Trading in the securities of Global Equity Fund, Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of HealthSonix Inc., which is quoted on the Pink Sheets under the ticker symbol HSXI. Trading in the securities of HealthSonix Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of IQ Webquest Inc., which is quoted on the Pink Sheets under the ticker symbol IQWB. Trading in the securities of IQ Webquest Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of JSX Energy Inc., which is quoted on the Pink Sheets under the ticker symbol JSXG. Trading in the securities of JSX Energy Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Kensington Industries, Inc., which is quoted on the Pink Sheets under the ticker symbol KSGT. Trading in the securities of Kensington Industries, Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Kingslake Energy Inc., which is quoted on the Pink Sheets under the ticker symbol KGLJ. Trading in the securities of Kingslake Energy Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of L International Computers Inc., which is quoted on the Pink Sheets under the ticker symbol LITL. Trading in the securities of L International Computers Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Let's Talk Recovery Inc., which is quoted on the Pink Sheets under the ticker symbol LKRV. Trading in the securities of Let's Talk Recovery Inc. appears to predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Mobilestream Oil, Inc., which is quoted on the Pink Sheets under the ticker symbol MSRM. Trading in the securities of Mobilestream Oil, Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Mvive Inc., which is quoted on the Pink Sheets under the ticker symbol MVIV. Trading in the securities of Mvive Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Native American Energy Group Inc., which is quoted on the Pink Sheets under the ticker symbol NVMG. Trading in the securities of Native American Energy Group Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Paramount Gold and Silver Corp., which is quoted on the American Stock Exchange under the ticker symbol PZG. Trading in the securities of Paramount Gold and Silver Corp. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Regal Technologies, Inc., which trades in the grey market under the ticker symbol RGTN. Trading in the securities of Regal Technologies, Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Remington Ventures, Inc., which is quoted on the Pink Sheets under the ticker symbol REMV. Trading in the securities of Remington Ventures, Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Straight Up Brands Inc., which is quoted on the Pink Sheets under the ticker symbol STRU. Trading in the securities of Straight Up Brands Inc. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Transglobal Oil Corp., which is quoted on the Pink Sheets under the ticker symbol TRGO. Trading in the securities of Transglobal Oil Corp. appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

It appears to the Securities and Exchange Commission that there is a lack of current and accurate information concerning the securities of Turquoise Development Company, which is quoted on the Pink Sheets under the ticker symbol TQDC. Trading in the securities of Turquoise Development Company appears to be predicated on apparent misstatements. Certain persons appear to have usurped the identity of a defunct or inactive publicly traded corporation, initially by incorporating a new entity using the same name, and then by obtaining a new CUSIP number and ticker symbol based on the apparently false representation that they were duly authorized officers, directors and/or agents of the original publicly traded corporation.

The Commission is of the opinion that the public interest and the protection of investors require a suspension of trading in the securities of the above-listed companies.

Therefore, it is ordered, pursuant to Section 12(k) of the Securities Exchange Act of 1934, that trading in the above-listed companies is suspended for the period from 9:30 a.m. EST on March 13, 2008, through 11:59 p.m. EST on March 27, 2008.

By the Commission.
Nancy M. Morris,
Secretary.

[FR Doc. 08-1039 Filed 3-13-08; 12:34 pm]

BILLING CODE 8011-01-P